DEPARTMENT OF COMMERCE

Foreign-Trade Zones Board

[Order No. 1338]

Approval of Manufacturing Authority Foreign-Trade Zone 37, Minolta Advance Technology, Inc. (Toner Products); Goshen, NY

Pursuant to its authority under the Foreign-Trade Zones Act of June 18, 1934, as amended (19 U.S.C. 81a-81u), the Foreign-Trade Zones Board (the Board) adopts the following Order:

Whereas, Orange County, New York, grantee of Foreign-Trade Zone 37, on behalf of Minolta Advance Technology, Inc., has requested authority to manufacture bulk toner, toner cartridges for computer printers and copiers, and remanufacture toner cartridges, under FTZ procedures within FTZ 37-Site 7;

Whereas, notice inviting public comment has been given in the Federal Register (68 FR 57405, 10/3/03);

Whereas, the application was amended 5/13/04 to withdraw HTSUS categories: 5807.10, 5906.10.0000 and 8524, from the requested scope of authority for imported materials;

Whereas, pursuant to section 400.32(b)(1) of the FTZ Board regulations (15 CFR 400), the Secretary of Commerce's delegate on the FTZ Board has the authority to act for the Board in making decisions regarding manufacturing activity within existing zones when the proposed activity is the same, in terms of products involved, to activity recently approved by the Board and similar in circumstances (15 CFR 400.32(b)(1)(i)); and,

Whereas, the Board adopts the findings and recommendations of the examiner's report, and finds that the requirements of the FTZ Act and the Board's regulations are satisfied, and that approval of the request, as amended, is in the public interest;

Now, therefore, the Board hereby orders:

The application, as amended, on behalf of Minolta Advance Technology, Inc., to manufacture bulk toner, toner cartridges for computer printers and copiers, and remanufacture toner cartridges, under zone procedures within FTZ 37-Site 7, is approved, subject to the FTZ Act and the Board's regulations, including Section 400.28.

Signed at Washington, DC, this 14th day of June 2004.
James J. Jochum,
Assistant Secretary of Commerce for Import Administration, Alternate Chairman, Foreign-Trade Zones Board.

[FR Doc. 04-13986 Filed 6-21-04; 8:45 am]

BILLING CODE 3510-DS-P